DEPARTMENT OF HEALTH AND HUMAN SERVICES

Centers for Disease Control and Prevention

[60Day-09-0818]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Cost and Follow-up Assessment of Administration on Aging (AoA)- Funded Fall Prevention Programs for Older Adults—Extension—National Center for Injury Prevention and Control (NCIPC), Centers for Disease Control and Prevention (CDC).

Background and Brief Description

CDC received OMB approval for Control number 0920-0818 to collect data for the Cost and Follow-up Assessment of Fall Prevention Programs. This approval expires on 7/31/10. At this time we are requesting a two year extension to collect data. NCIPC seeks to examine cost of implementing each of the three AoA-funded fall prevention programs for older adults (Stepping On, Moving for Better Balance and Matter of Balance) and to assess the maintenance of fall prevention behaviors among participants six months after completing the Matter of Balance program.

To assess the maintenance of fall prevention behaviors, CDC's contractor, Booz Allen Hamilton, will conduct telephone interviews of 300 Matter of Balance program participants six months after they have completed the program. The interview will assess their knowledge and self-efficacy related to falls as taught in the course, their activity and exercise levels, and their reported falls both before and after the program. The results of the follow-up assessment will determine the extent to which preventive behaviors learned during the Matter of Balance program are maintained and can continue to reduce fall risk.

The cost assessment will calculate the lifecycle cost of the Stepping On, Moving for Better Balance, and Matter of Balance programs. The cost analysis will include calculating the investment costs required to implement each program, as well as the ongoing operational costs associated with each program. These costs will be allocated over a defined period of time, depending on the average or standard amount of time these programs continue to operate (standard lifecycle analysis ranges from five to 10 years). The data obtained from the lifecycle cost calculation will allow us to compare program costs and to identify specific cost drivers, cost risks, and unique financial attributes of each program.

Local program coordinators for the 200 sites in each of the AoA-funded states will collect the cost data using lifecycle cost spreadsheets that will be returned to CDC's contractor for analysis. Booz Allen Hamilton has been contracted by CDC to conduct the data collection and analysis.

The results of these studies will support the replication and dissemination of these fall prevention programs and enable them to reach more older adults. States require data on impact and cost in order to obtain sustainable and supplemental funding to maintain programs after funding from AoA ends.

There are no costs to respondents other than their time.

Estimate of Annualized Burden Hours
Type of respondent | Form name | Number of respondents | Number of responses | Average burden per response (in hours) | Total burden (in hours)
Program Coordinators | Cost Assessment | 200 | 1 | 2 | 400
Program Participants | Impact Survey | 300 | 1 | 1 | 300
Total |  |  |  |  | 700

Dated: August 28, 2009.
Maryam I. Daneshvar,
Acting Reports Clearance Officer, Centers for Disease Control and Prevention.

[FR Doc. E9-21377 Filed 9-3-09; 8:45 am]

BILLING CODE 4163-18-P